DEPARTMENT OF TRANSPORTATION

Federal Transit Administration

Federal Highway Administration

Environmental Impact Statement: City of Fairfax and Fairfax and Prince William Counties, Virginia

AGENCY: Federal Transit Administration and Federal Highway Administration, DOT.

ACTION: Notice of intent.

SUMMARY: The Federal Transit Administration (FTA) and Federal Highway Administration (FHWA) are jointly issuing this notice to advise the public of its intent to prepare an Environmental Impact Statement (EIS) in cooperation with the Virginia Department of Rail and Public Transportation (VDRPT) and Virginia Department of Transportation (VDOT) for potential transportation improvements in the Interstate 66 corridor in Fairfax and Prince William Counties to address projected increases in travel demand over the next twenty years. Three public scoping meetings have been scheduled and will be held from January 22-24, 2002, at 7 p.m. at the following locations as part of the preparation of the EIS:

January 22, 2002—Centreville High School, 6001 Union Mill Road, Clifton, Virginia 20124 (snow date: January 29);

January 23, 2002—Old Town Hall, 3999 University Drive, Fairfax, Virginia 22030 (snow date: January 30);

January 24, 2002—Stonewall Jackson Middle School, 10100 Lomond Drive, Manassas, Virginia 20109 (snow date: January 31);

One agency scoping meeting will be held on January 24, 2001, at 10:30 a.m. at the VDOT Northern Virginia District Office in Chantilly.

FOR FURTHER INFORMATION CONTACT: Edward Sundra, Senior Environmental Specialist, Federal Highway Administration, Post Office Box 10249, Richmond, Virginia 23240-0249, Telephone 804-775-3338; Patricia Mampf, Transportation Program Specialist, Federal Transit Administration, 1760 Market Street, Suite 500, Philadelphia, Pennsylvania 19103-4124, Telephone 215-656-7071; or Steve Suder, Senior Transportation Engineer, Virginia Department of Transportation—Northern Virginia District, 14685 Avion Parkway, Suite 345, Chantilly, Virginia 20151, Telephone 703-383-2217.

SUPPLEMENTARY INFORMATION: In late-1995 in accordance with 23 CFR 450.318, a Major Investment Study (MIS) was initiated for the Interstate 66 Corridor from Interstate 495 to Route 15 in Prince William County. The purpose of the MIS was to study this 24 mile-long section of the corridor to assess the need for the benefits and impacts of potential transportation improvements to accommodate projected travel demand growth over the next twenty years. The MIS, completed in 1999, identified a locally preferred investment strategy for the corridor which included adding general purpose lanes, and HOV lanes, extending Metrorail, adding transit centers/park and ride facilities, and increasing bus service in the study area. The recommendations included in the MIS were the result of a multi-level screening process in which numerous multi-modal transportation strategies were considered.

With this notice of intent, FTA and FHWA in cooperation with the VDRPT and VDOT are initiating the National Environmental Policy Act (NEPA) process to prepare an EIS for proposed improvements in the Interstate 66 corridor to address the need to improve transportation and to respond to projected growth and travel congestion. FTA and FHWA will serve as co-lead agencies in the development of the EIS. Section 4(f) of the Department of Transportation Act of 1966 may also be invoked as a result of the proposed transportation improvements. If this is the case, a Section 4(f) Evaluation will be prepared and included as part of the EIS.

The EIS will build upon the MIS by revisiting the purpose and need for the project and revising it, as necessary, to account for changes in regional needs or goals. Likewise, the development of strategies and the screening process from the MIS will be used as a starting point for the NEPA process. Recognizing the NEPA requires the consideration of a reasonable range of alternatives that will address the purpose and need, the EIS will include a range of alternatives for detailed study consisting of a no-build alternative as well as alternatives consisting of transportation system management strategies (including but not limited to increased bus service, development of transit centers and park and ride lots, and increased peak period Metrorail service), mass transit, and improvements to existing roadways (including the use of HOV lanes). These alternatives will be developed, screened, and carried forward for detailed analysis in the draft EIS based on their ability to address the purpose and need while avoiding, minimizing, and mitigating impacts to known and sensitive resources to the extent practical.

Letters describing the NEPA study and soliciting input will be sent to the appropriate Federal, State and local agencies and to organizations and citizens who have expressed or are known to have an interest or legal role in this proposal. A series of scoping meeting will be held as part of the NEPA process to facilitate, local, state, and federal agency involvement and input into the project in an effort to identify all of the issues that need to be addressed in the EIS.

Private organizations, citizens, and interest groups will also have multiple opportunities to provide input into the development of the EIS and identify issues that should be addressed. A comprehensive public participation program will be developed to involve them in the project development process. This program will use the following outreach efforts to provide information and solicit input: the Internet, kiosks, a telephone hotline, e-mail, informal meetings, public information meetings, public hearings and other efforts, as necessary and appropriate. Notices of public meetings or public hearings will be given through various forums providing the time and place of the meeting along with other relevant information. The draft EIS will be available for public and agency review and comment prior to the public hearings.

To ensure that the full range of issues related to this proposed action are identified and considered, comments and suggestions in response to this Notice of Intent are invited from all interested parties. Comments and questions concerning the proposed action and draft EIS should be directed to FHWA, FTA or VDOT at the addresses provided above. There will be several opportunities to provide comments throughout the scoping process, but all comments in response to this notice should be submitted within 30 days of its publication.

(Catalog of Federal Domestic Assistance Program Number 20.205, Highway Planning and Construction; 20.500, Federal Transit Administration Capital Grants. The regulations implementing Executive Order 12372 regarding intergovernmental consultation on Federal programs and activities apply to this proposed action.)

Authority: 23 U.S.C. 315; 49 CFR 1.48

Issued on: January 4, 2002.
Susan E. Schruth,
Regional Administrator, Federal Transit Administration.
Edward S. Sundra,
Senior Environmental Specialist, Federal Highway Administration.

[FR Doc. 02-709 Filed 1-10-02; 8:45 am]

BILLING CODE 4910-22-M